DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, e-mail paperwork@hrsa.gov or call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Maternal and Child Health Services Title V Block Grant Program Guidance and Forms for the Title V Application/Annual Report (OMB No. 0915-0172): Revision

The Health Resources and Services Administration (HRSA) proposes to revise the Maternal and Child Health Services Title V Block Grant Program—Guidance and Forms for the Application/Annual Report. The guidance is used annually by the 50 States and 9 jurisdictions in making application for Block Grants under Title V of the Social Security Act, and in preparing the required annual report. The proposed revisions follow and build on extensive consultation received from a workgroup convened to provide suggestions to improve the guidance and forms.

The changes in this edition of the Maternal and Child Health Services Title V Block Grant Program Guidance and Forms for the Title V Application/Annual Report are primarily revisions to Section II—Needs Assessment. The purpose of these revisions is: (1) To provide more complete information on the Background and Conceptual Framework for the Needs Assessment Process (Part A); (2) to clarify what State grantees are to include in the Five Year Needs Assessment Document (Part B); (3) to better explain the information to include in the Annual Needs Assessment Summary/Update, both in the year when the five year Needs Assessment is conducted and in interim years (Part C); and (4) to update Figure 2, the Needs Assessment diagram, to reflect all aspects of the Needs Assessment process. In addition, other minor changes and clarifications are included throughout the document that primarily serves to make the instructions clearer for the respondent.

Such changes include the clarification of headings and the types of information that States may want to include in a particular section.

The estimated average annual burden is as follows:

Reporting document | Number of respondents | Responses per respondent | Total responses | Burden per response | Total burden hours | Cost per hour | Total hour cost
Application and Report without Needs Assessment (2009 & 2011) | 59 | 1 | 59 | 270 | 15,930 | $30 | $477,900
Application with Needs Assessment (2010) | 59 | 1 | 59 | 378.5 | 22,332 | 30 | 669,960
Total Average Annual Burden | 59 |  | 59 | 306 | 18,054 | 30 | 541,620
The total estimate of annual burden is the average for the next three year period of Application submissions in which a Needs Assessment will be required once. The Application submissions (with and without the Needs Assessment) are based on the calendar year.

E-mail comments to paperwork@hrsa.gov or mail the HRSA Reports Clearance Officer, Room 10-33, Parklawn Building, 5600 Fishers Lane, Rockville, MD 20857. Written comments should be received within 60 days of this notice.

Dated: September 22, 2008.
Alexandra Huttinger,
Director, Division of Policy Review and Coordination.

[FR Doc. E8-22729 Filed 9-26-08; 8:45 am]

BILLING CODE 4165-15-P